ADVISORY COUNCIL ON HISTORIC PRESERVATION

Notice of Meeting

AGENCY: Advisory Council on Historic Preservation.

ACTION: Notice of meeting.

SUMMARY: Notice is hereby given that the Advisory Council on Historic Preservation (ACHP) will meet on Thursday, May 10, 2007. The meeting will be held in Room MO9 of the Old Post Office Building, 1100 Pennsylvania Avenue, NW., Washington, DC at 1:30 p.m.

The ACHP was established by the National Historic Preservation Act of 1966 (16 U.S.C. 470 et seq.) to advise the President and Congress on national historic preservation policy and to comment upon Federal, federally assisted, and federally licensed undertakings have an effect upon properties listed in or eligible for inclusion in the National Register of Historic Places. The ACHP's members are the Architect of the Capitol; the Secretaries of the Interior, Agriculture, Defense, and Transportation; the Administrators of the Environmental Protection Agency and General Services Administration; the Chairman of the National Trust for Historic Preservation; the President of the National Conference of State Historic Preservation Officers; a Governor; a Mayor; a Native American; and eight non-Federal members appointed by the President.

The agenda for the meeting includes the following:

Call to Order—1:30 p.m.

I. Chairman's Welcome

II. Adoption of ACHP Recommendations from the Preserve America Summit

III. Native American Activities

A. Report of the Native American Advisory Group

B. Native American Program Report

IV. Archaeology Task Force

A. Presentation of Archaeology

B. Report on Heritage Tourism Initiatives

V. Report of the Preservation Initiatives Committee

A. Update on Preserve America Communities and Grants

B. Preserve America Action Plan

C. Preserve America and the National Park Service Centennial Challenge

VI. Report of the Federal Agency Programs Committee

A. Guidance for Standard Treatments

B. Tribal Notification Process for Regional and National Section 106 Initiatives

VII. Report of the Communications, Education, and Outreach Committee

A. 2008 Preserve America Presidential Award Modification

VIII. Chairman's Report

A. ACHP Alumni Foundation

B. ACHP FY 2008 Budget

IX. Executive Director's Report

X. New Business

XI. Adjourn

Note: The meetings of the ACHP are open to the public. If you need special accommodations due to a disability, please contact the Advisory Council on Historic Preservation, 1100 Pennsylvania Avenue, NW., Room 803, Washington, DC 202-606-8503, at least seven (7) days prior to the meeting.

FOR FURTHER INFORMATION CONTACT: Additional information concerning the meeting is available from the Executive Director, Advisory Council on Historic Preservation, 1100 Pennsylvania Avenue, NW., #803, Washington, DC 20004.

Dated: May 1, 2007.
John Fowler,
Executive Director.

[FR Doc. 07-2221 Filed 5-4-07; 8:45 am]

BILLING CODE 4310-K6-M